DEPARTMENT OF DEFENSE

Defense Logistics Agency

[DOD-2006-OS-0186]

Office of the Secretary of Defense; Privacy Act of 1974; Systems of Records

AGENCY: Defense Logistic Agency.

ACTION: Notice to amend a system of records.

SUMMARY: The Defense Logistics Agency is amending a system of records notice to its existing inventory of record systems subject to the Privacy Act of 1974 (5 U.S.C. 552a), as amended.

DATES: This action will be effective without further notice on September 25, 2006 unless comments are received that would result in a contrary determination.

ADDRESSES: Send comments to the Privacy Act Officer, Headquarters, Defense Logistics Agency, Attn: DP, 8725 John J. Kingman Road, Stop 2533, Fort Belvoir, VA 22060-6221.

FOR FURTHER INFORMATION CONTACT: Ms. Jody Sinkler at (703) 767-5045.

SUPPLEMENTARY INFORMATION: The Defense Logistics Agency notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974 (5 U.S.C. 552a), as amended, which requires the submission of a new or altered system report.

Dated: August 18, 2006.
C.R. Choate,
Alternate OSD Federal Register Liaison Officer, Department of Defense.

S259.05 DLA-G

System name:

Legal Assistance (November 16, 2004, 69 FR 67112).

Changes:

System identifier:

Delete ``DLA-G'' from entry.

* * * * *

System location:

Delete entry and replace with “Office of the General Counsel, Headquarters, Defense Logistics Agency, Attn: DG, 8725 John J. Kingman Road, Stop 2533, Fort Belvoir, VA 22060-6221, and the Offices of Counsel of the DLA Field Activities (FAs). Official mailing addresses are published as an appendix to DLA's compilation of systems of records notices.”

Authority:

Delete ``and 302'' from the entry.

* * * * *

Retrievability:

Delete entry and replace with ``Record is retrieved by individual's name.''

* * * * *

System manager(s) and address:

Delete entry and replace with ``Office of the General Counsel, Headquarters, Defense Logistics Agency, Attn: DG, 8725 John J. Kingman Road, Stop 2533, Fort Belvoir, VA 22060-6221, and the Offices of Counsel at DLA Field Activities. Official mailing addresses are published as an appendix to DLA's compilation of systems of records notices.''

Notification procedure:

Delete entry and replace with ``Individuals seeking to determine whether information about themselves is contained in this system of records should address written inquiries to the Privacy Act Officer, Headquarters, Defense Logistics Agency, Attn: DP, 8725 John J. Kingman Road, Stop 2533, Fort Belvoir, VA 22060-6221.

Individual must provide full name and date assistance was requested.''

Record access procedures:

Delete entry and replace with ``Individuals seeking access to information about themselves contained in this system of records should address written inquiries to the Privacy Act Officer, Headquarters, Defense Logistics Agency, Attn: DP, 8725 John J. Kingman Road, Stop 2533, Fort Belvoir, VA 22060-6221.

Individual must provide full name and date assistance was requested.”

Contesting record procedures:

Delete entry and replace with “The DLA rules for accessing records, for contesting contents, and appealing initial agency determinations are contained in 32 CFR part 323, or may be obtained from the Privacy Act Officer, Headquarters, Defense Logistics Agency, Attn: DP, 8725 John J. Kingman Road, Stop 2533, Fort Belvoir, VA 22060-6221.”

* * * * *

S259.05

System name:

Legal Assistance.

System location:

Office of the General Counsel, Headquarters, Defense Logistics Agency, Attn: DG, 8725 John J. Kingman Road, Stop 2533, Fort Belvoir, VA 22060-6221, and the Offices of Counsel of the DLA Field Activities (FAs). Official mailing addresses are published as an appendix to DLA's compilation of systems of records notices.

Categories of individuals covered by the system:

Authorized military personnel and dependents who have requested legal assistance.

Categories of records in the system:

Wills, Powers of Attorney and other legal documents prepared in response to requests for legal advice. Also background information supplied by requester to prepare the documents.

Authority for maintenance of the system:

5 U.S.C. 301, Departmental Regulations.

Purpose(s):

Documents are used to provide copies for individuals requesting the assistance, their representative or where otherwise appropriate, members of their immediate families. Documents may also be used as models or examples for preparing future documents.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of DLA's compilation of systems of records notices apply to this system.

Policies and practices for storing, retrieving, accessing, retaining, and disposing of records in the system:

Storage:

Records are maintained in paper and computerized form.

Retrievability:

Record is retrieved by individual's name.

Safeguards:

Attorney operating folders are kept in a file cabinet or other storage devices accessible only to authorized personnel of the Office of Counsel or as determined by Counsel.

Retention and disposal:

Destroy 2 years after completion of case, except documents withdrawn for use as precedents may be held by topics until no longer required for references purposes.

System manager(s) and address:

Office of the General Counsel, Headquarters, Defense Logistics Agency, Attn: DG, 8725 John J. Kingman Road, Stop 2533, Fort Belvoir, VA 22060-6221, and the Offices of Counsel at DLA Field Activities. Official mailing addresses are published as an appendix to DLA's compilation of systems of records notices.

Notification procedure:

Individuals seeking to determine whether information about themselves is contained in this system of records should address written inquiries t6o the Privacy Act Officer, Headquarters, Defense Logistics Agency, Attn: DP, 8725 John J. Kingman Road, Stop 2533, Fort Belvoir, VA 22060-6221.

Individual must provide full name and date assistance was requested.

Record access procedures;

Individuals seeking access to information about themselves contained in this system of records should address written inquiries to the Privacy Act Officer, Headquarters, Defense Logistics Agency, Attn: DP, 8725 John J. Kingman Road, Stop 2533, Fort Belvoir, VA 22060-6221.

Individual must provide full name and date assistance was requested.

Contesting record procedures:

The DLA rules for accessing records, for contesting contents, and appealing initial agency determinations are contained in 32 CFR part 323, or may be obtained from the Privacy Act Officer, Headquarters, Defense Logistics Agency, Attn: DP, 8725 John J. Kingman Road, Stop 2533, Fort Belvoir, VA 22060-6221.

Record source categories:

Individual requesting assistance.

Exemptions claimed for the system:

None.

[FR Doc. 06-7155 Filed 8-24-06; 8:45 am]

BILLING CODE 5001-06-M